INTERNATIONAL TRADE COMMISSION

[Investigation No. 337-TA-478]

In the Matter of Certain Ground Fault Circuit Interrupters and Products Containing Same; Notice of a Commission Determination To Review and Remand a Portion of an Initial Determination Denying a Motion for Monetary Sanctions as Moot, and Not To Review the Remainder of the Initial Determination

AGENCY: U.S. International Trade Commission.

ACTION: Notice.

SUMMARY: Notice is hereby given that the U.S. International Trade Commission has determined to review and remand the portion of the presiding administrative law judge's (“ALJ's”) initial determination (“ID”) denying respondents’ motion for monetary sanctions as moot and not to review the remainder of the ID, which grants a motion to terminate the above-captioned investigation based on withdrawal of the complaint.

FOR FURTHER INFORMATION CONTACT: Timothy P. Monaghan, Esq., Office of the General Counsel, U.S. International Trade Commission, 500 E Street, SW., Washington, DC 20436, telephone 202-205-3152. Copies of the Commission's order, the ID, and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov) The public record for this investigation may be viewed on the Commission's electronic docket (EDIS) at http://edis.usitc.gov.

SUPPLEMENTARY INFORMATION: On August 23, 2002 the Commission instituted this investigation, which concerns allegations of unfair acts in violation of section 337 of the Tariff Act of 1930 in the importation and sale of certain ground fault circuit interrupters (“GFCIs”) and products containing same by reason of infringement of claims 1-4 of the U.S. Patent No. 4,595,894 (“the '894 patent”). 67 FR 54671. The complainant is Leviton Manufacturing Co., Inc. (“Leviton”), and the respondents are Yueqing Huameili Electronic Co., Ltd. d/b/a HML, Yueqing Huameili Electronic Co., Ltd., Van-Sheen Electric Appliance Co. d/b/a Yatai Switch Factory, Sammax International Limited, and Jiamei Electrical Engineering Co., Ltd.

On January 8, 2003, Leviton filed a motion seeking summary determination that certain of respondents' GFCI products infringe claim 1 of the '894 patent. On February 14, 2003, respondents filed an Opposition and Conditional Cross-Motion for Summary Determination that the '894 patent is invalid and unenforceable. On February 21, 2003, the presiding ALJ issued Order No. 9, denying Leviton's infringement motion.

On January 22, 2003, respondents filed a motion to compel complete responses to their discovery requests. On February 3, 2003, the ALJ issued Order No. 7 granting in part respondents' motion to compel. On February 21, 2003, respondents filed a Motion to Compel Compliance with Order No. 7 and for Sanctions.

On March 3, 2003, Leviton filed a motion to terminate the investigation based upon withdrawal of the complaint pursuant to rule 210.21(a)(1).

On March 17, 2003, the ALJ issued an ID (Order No. 11) granting in part respondents' cross-motion for summary determination on invalidity, and on April 15, 2003, the Commission determined to review and reverse that ID.

On April 30, 2003, the ALJ issued an ID (Order No. 13) granting Leviton's motion to terminate the investigation and denying all pending motions, including respondents' motion for monetary sanctions, as moot.

On May 7, 2003, Leviton filed a petition for review of Order No. 13 requesting that the Commission review and vacate certain statements set forth in footnote 3 of Order No. 13, and on May 7, 2003, respondents filed a petition for review of the portion of Order No. 13 denying their motion for monetary sanctions as moot.

On May 14, 2003, Leviton responded to respondents' petition for review, respondents responded to Leviton's petition for review, and the Commission investigative attorney responded to both petitions.

This action is taken under the authority of section 337 of the Tariff Act of 1930, as amended, 19 U.S.C. 1337, and Commission rules 210.42, 210.43, 19 CFR 210.42 and 210.43.

Issued: May 27, 2003.
By order of the Commission.
Marilyn R. Abbott,
Secretary to the Commission.

[FR Doc. 03-13690 Filed 5-30-03; 8:45 am]

BILLING CODE 7020-02-P